DEPARTMENT OF THE TREASURY

Submission for OMB Review; Comment Request

December 14, 2010.

The Department of the Treasury will submit the following public information collection requirements to OMB for review and clearance under the Paperwork Reduction Act of 1995, Public Law 104-13 on or after the date of publication of this notice. A copy of the submission may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before January 19, 2011 to be assured of consideration.

Internal Revenue Service (IRS)

OMB Number: 1545-0023.

Type of Review: Extension without change to a currently approved collection.

Title: Quarterly Federal Excise Tax Return.

Form: 720.

Abstract: The information supplied on Form 720 is used by the IRS to determine the correct tax liability. Additionally, the data is reported by the IRS to Treasury so that funds may be transferred from the general revenue funds to the appropriate trust funds.

Respondents: Private sector: Businesses or other for-profits.

Estimated Total Burden Hours: 4,366,381 hours.

OMB Number: 1545-0128.

Type of Review: Revision of a currently approved collection.

Title: U.S. Life Insurance Company Income Tax Return.

Form: 1120-L.

Abstract: Life insurance companies are required to file an annual return of income and compute and pay the tax due. The data is used to insure that companies have correctly reported taxable income and paid the correct tax.

Respondents: Private sector: Businesses or other for-profits.

Estimated Total Burden Hours: 644,748 hours.

OMB Number: 1545-0895.

Type of Review: Revision of a currently approved collection.

Title: General Business Credit.

Form: 3800.

Abstract: Internal Revenue Code section 38 permits taxpayers to reduce their income tax liability by the amount of their general business credit, which is an aggregation of their investment credit, jobs credit, alcohol fuel credit, research credit, low-income housing credit, disabled access credit, enhanced oil recovery credit, etc. Form 3800 is used to figure the correct credit.

Respondents: Private sector: Businesses or other for-profits.

Estimated Total Burden Hours: 5,307,500 hours.

Bureau Clearance Officer: Allan Hopkins, Internal Revenue Service, 1111 Constitution Avenue, NW., Washington, DC 20224; (202) 622-6665.

OMB Reviewer: Shagufta Ahmed, Office of Management and Budget, New Executive Office Building, Room 10235, Washington, DC 20503; (202) 395-7873.

Dawn D. Wolfgang,
Treasury PRA Clearance Officer.

[FR Doc. 2010-31856 Filed 12-17-10; 8:45 am]

BILLING CODE 4830-01-P